DEPARTMENT OF AGRICULTURE

Grain Inspection, Packers and Stockyards Administration

Designation for the State of Georgia and State of Montana Areas

AGENCY: Grain Inspection, Packers and Stockyards Administration, USDA.

ACTION: Notice.

SUMMARY: GIPSA is announcing the designation of the Georgia Department of Agriculture (Georgia) and the Montana Department of Agriculture (Montana) to provide official services under the United States Grain Standards Act (USGSA), as amended.

DATES: Effective Date: July 1, 2014.

ADDRESSES: Eric J. Jabs, Deputy Director, USDA, GIPSA, FGIS, QACD, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the December 26, 2013 Federal Register (78 FR 78328), GIPSA requested applications for designation to provide official services in the geographic areas currently served by agencies of the States of Georgia and Montana. Applications were due by January 27, 2014.

Georgia and Montana were the sole applicants for designation to provide official services in these areas. As a result, GIPSA did not ask for additional comments.

GIPSA evaluated the designation criteria in section 79(f) of the USGSA (7 U.S.C. 79(f)) and determined that Georgia and Montana are qualified to provide official services in the geographic area specified in the Federal Register on December 26, 2013. This designation action to provide official services in these specified areas is effective July 1, 2014 to June 30, 2017.

Interested persons may obtain official services by contacting these agencies at the following telephone numbers:

Official agency | Headquarters location and telephone | Designation start | Designation end
Georgia | Tifton, GA (229) 386-3129 | 7/1/2014 | 6/30/2017
Montana | Great Falls, MT (406) 452-9561 | 7/1/2014 | 6/30/2017

Section 79(f) of the USGSA authorizes the Secretary to designate a qualified applicant to provide official services in a specified area after determining that the applicant is better able than any other applicant to provide such official services (7 U.S.C. 79 (f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2014-19372 Filed 8-14-14; 8:45 am]

BILLING CODE 3410-KD-P